NUCLEAR REGULATORY COMMISSION

Sunshine Act; Notice of Meetings

Agency Holding the Meetings: Nuclear Regulatory Commission.

Dates: Weeks of December 19, 26, 2005, January 2, 9, 16, 23, 2006.

Place: Commissioners' Conference Room, 11555 Rockville Pike, Rockville, Maryland.

Status: Public and Closed.

Matters To Be Considered:

Week of December 19, 2005

There are no meetings scheduled for the Week of December 19, 2005.

Week of December 26, 2005—Tentative

There are no meetings scheduled for the Week of December 26, 2005.

Week of January 2, 2006—Tentative

There are no meetings scheduled for the Week of January 2, 2006.

Week of January 9, 2006—Tentative

Tuesday, January 10, 2006

9:30 a.m.—Briefing on International Research and Bilateral Agreements. (Contact: Roman Shaffer, 301-415-7606).

This meeting will be webcast live at the Web address: http://www.nrc.gov.

Wednesday, January 11, 2006

9:30 a.m.—Meeting with Advisory Committee on Nuclear Waste (ACNW). (Contact: John Larkins, 301-415-7360).

This meeting will be webcast live at the Web address: http://www.nrc.gov.

Thursday, January 12, 2006

9:30 a.m.—Discussion of Security Issues (Closed—Ex. 1 & 2).

Week of January 16, 2006—Tentative

Thursday, January 19, 2006

1:30 p.m.—Discussion of Security Issues (Closed—Ex. 1 & 3).

Week of January 23, 2006—Tentative

There are no meetings scheduled for the Week of January 23, 2006.

* The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 15, 2005.
R. Michelle Schroll,
Office of the Secretary.

[FR Doc. 05-24323 Filed 12-16-05; 2:18 pm]

BILLING CODE 7590-01-M